DEPARTMENT OF ENERGY

Federal Energy Regulatory Commission

[Docket No. EC03-40-002, et al.]

ITC Holdings Corp., et al.; Electric Rate and Corporate Filings

March 27, 2003.

The following filings have been made with the Commission. The filings are listed in ascending order within each docket classification.

1. ITC Holdings Corp., ITC Holdings Limited Partnership, DTE Energy Company, International Transmission Company, The Detroit Edison Company

[Docket Nos. EC03-40-002 and ER03-343-002]

Take notice that on March 24, 2003, ITC Holdings Corp. and International Transmission Company tendered for filing with the Federal Energy Regulatory Commission (Commission) a compliance filing pursuant to the Commission's February 20, 2003 order issued in the above-referenced proceedings (102 FERC ¶ 61,182).

Comment Date: April 14, 2003.

2. Green Country Energy, LLC

[Docket No. EC03-71-000]

Take notice that on March 25, 2003, Green Country Energy, LLC (Green Co. Energy) filed with the Federal Energy Regulatory Commission an application pursuant to section 203 of the Federal Power Act for approval of the transfer of 100 percent of the membership interests in Green Co. Energy to Newco, LLC (Newco) and the simultaneous effective transfer of a 90 percent indirect non-managing membership interest in Green Co. Energy to GESF I and GESF II (together, GESF Members). Green Co. Energy states that GESF Members are indirect, wholly-owned subsidiaries of GE Structured Finance. Green Co. Energy states it owns 100 percent interest in a 795 MW (summer rated) generating facility (Facility) located in Jenks, Oklahoma.

Comment Date: April 15, 2003.

3. American Ref-Fuel Company of Essex County, American Ref-Fuel Company of Hempstead, SEMASS Partnership, American Ref-Fuel Company of Delaware Valley, L.P., MSW Energy Holdings LLC

[Docket No. EC03-72-000]

Take notice that on March 25, 2003, American Ref-Fuel Company of Essex County (ARC-Essex), American Ref-Fuel Company of Hempstead (ARC-Hempstead), SEMASS Partnership (SEMASS), American Ref-Fuel Company of Delaware Valley, L.P. (ARC-Delaware Valley and together with ARC-Essex, ARC-Hempstead and SEMASS, the Project Companies) and MSW Energy Holdings LLC (MSW) filed with the Federal Energy Regulatory Commission (Commission) an application pursuant to Section 203 of the Federal Power Act for authorization of a disposition of jurisdictional facilities whereby the applicants would affect a change in control over the Project Companies. Each of the Project Companies is a qualifying facility under the Public Utility Regulatory Policies Act of 1978, as amended.

The applicants are requesting approval of: (1) Several transfers of an aggregate fifty percent interest in ARC-Essex, ARC-Hempstead, ARC-Delaware Valley, and a forty-five percent interest in SEMASS (Transferred Interests) to upstream affiliates of the Project Companies that are wholly owned subsidiaries of Duke Energy Global Markets, Inc. (Duke GMI); (2) the indirect transfer by Duke GMI and one of these affiliates of the Transferred Interests, through a two-stage sale, to MSW and (3) additional internal transfers of the Transferred Interests by the upstream owners of MSW. The applicants are requesting confidential treatment pursuant to 18 CFR 388.112 (2002) for Exhibits F (wholesale power sales and unbundled transmission customers), I (the written instruments associated with the proposed transfer), M and N (QF contracts). Further, applicants respectfully request that the Commission approve this transfer on an expedited basis and no later than May 31, 2003.

Comment Date: April 15, 2003.

4. Athens Generating Company, L.P.

[Docket No. ER99-4282-003

Covert Generating Company, LLC

[Docket No. ER01-520-003

Harquahala Generating Company, LLC

[Docket No. ER01-748-003

Millennium Power Partners, L.P.

[Docket No. ER98-830-007

Take notice that on March 19, 2003, Athens Generating Company, L.P., Covert Generating Company, LLC, Harquahala Generating Company, LLC and Millennium Power Partners, L.P. (collectively, the Applicants) tendered for filing a request that the Commission place in abeyance the Applicants' notice of change in status filed on November 18, 2002 in the above-referenced proceedings.

Comment Date: April 9, 2003.

5. Armstrong Limited Energy Partnership, LLP, Dominion Energy Marketing, Inc., Dominion Nuclear Connecticut, Inc., Dominion Nuclear Marketing I, Inc., Dominion Nuclear Marketing II, Inc., Dominion Nuclear Marketing III, Inc., Dresden Energy, LLC, Elwood Energy, LLC, Fairless Energy, LLC, Kincaid Generation, LLC, Pleasants Energy, LLC, State Line Energy, LLC, Troy Energy, LLC

[Docket Nos. ER02-24-002, ER01-468-001, ER00-3621-02, ER00-3620-002, ER00-3619-002, ER00-3746-003, ER02-22-002, ER99-1695-002, ER02-23-002, ER99-1432-002, ER02-26-002, ER96-2869-005, ER02-1342-001, and ER02-25-002]

Take notice that, on March 24, 2003, Dominion Resources, Inc. (DRI) submitted a three-year market update for its unregulated subsidiaries that have authorizations to sell power at market-based rates. These subsidiaries include: Armstrong Limited Energy Partnership, LLLP; Dominion Energy Marketing, Inc.; Dominion Nuclear Connecticut, Inc.; Dominion Nuclear Marketing I, Inc.; Dominion Nuclear Marketing II, Inc.; Dominion Nuclear Marketing III, LLC; Dresden Energy, LLC; Elwood Energy, LLC; Fairless Energy, LLC; Kincaid Generation, LLC; Pleasants Energy, LLC; State Line Energy, LLC; and Troy Energy, LLC (collectively, the DRI Affiliates). DRI asks that the next three-year update for the DRI Affiliates be due three years from the date of acceptance of this filing.

Comment Date: April 14, 2003.

6. Michigan Electric Transmission Company, LLC

[Docket No. ER03-649-000]

Take notice that on March 25, 2003, Michigan Electric Transmission Company, LLC (METC) submitted an executed Interconnection Facilities Agreement Between METC and Lowell Light and Power (Facilities Agreement and Lowell, respectively). METC requests an effective date of March 6, 2003 for the Facilities Agreement.

Comment Date: April 15, 2003.

7. Jersey Central Power & Light Company

[Docket No. ER03-650-000]

Take notice that on March 25, 2003, Jersey Central Power & Light Company (Jersey Central) tendered for filing a complete revised Interconnection Agreement between Jersey Central and Atlantic City Electric Company (Atlantic City), which revises a component of the rate for service relating to Jersey Central's Operating and Maintenance (O&M) expenses for 2002. Also submitted for filing was a revised rate schedule sheet reflecting changes to Jersey Central's O&M expenses for 2003.

Jersey Central states that a copy of this filing has been served upon the New Jersey Board of Public Utilities and Atlantic City.

Comment Date: April 15, 2003.

8. Wilbur Power LLC .

[Docket No.QF03-79-000]

Take notice that on March 25 2003, Wilbur Power LLC, filed with the Federal Energy Regulatory Commission (Commission) an Application for Certification as a Qualifying Cogeneration Facility, Request for Waiver of QF Operating and Efficiency Standards, and Request for Expedited Treatment, pursuant to Sections 292.207(b) and 292.205” of the Commission's Regulations. No determination has been made that the submittal constitutes a complete filing.

Wilbur Power LLC, states that the facility is a 49 MW, natural gas fired, topping-cycle cogeneration facility (the Facility) located in Antioch, California, and the Facility is interconnected with the electric system of Pacific Gas and Electric Company and power from the Facility will be sold to Pacific Gas and Electric Company.

Comment Date: April 24, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-8218 Filed 4-3-03; 8:45 am]

BILLING CODE 6717-01-P